DEPARTMENT OF AGRICULTURE

Animal and Plant Health Inspection Service

7 CFR Part 319

[Docket No. APHIS-2016-0026]

RIN 0579-AE25

Importation of Fresh Mango Fruit From Vietnam Into the Continental United States

AGENCY: Animal and Plant Health Inspection Service, USDA.

ACTION: Final rule.

SUMMARY: We are amending the regulations to allow the importation of fresh mango fruit from Vietnam into the continental United States. As a condition of entry, fresh mango fruit from Vietnam will be subject to a systems approach that includes orchard or packinghouse requirements, irradiation treatment, and port of entry inspection. The fruit will also be required to be imported in commercial consignments and accompanied by a phytosanitary certificate issued by the national plant protection organization of Vietnam with an additional declaration stating that the consignment was inspected and found free of Macrophoma mangiferae and Xanthomonas campestris pv. mangiferaeindicae. This action will allow for the importation of fresh mango fruit from Vietnam while continuing to provide protection against the introduction of plant pests into the continental United States.

DATES: Effective December 29, 2017.

FOR FURTHER INFORMATION CONTACT: Mr. Tony Román, Senior Regulatory Policy Specialist, Regulatory Coordination and Compliance, PPQ, APHIS, 4700 River Road Unit 133, Riverdale, MD 20737-1231; (301) 851-2242.

SUPPLEMENTARY INFORMATION:

Background

Under the regulations in “Subpart—Fruits and Vegetables” (7 CFR 319.56-1 through 319.56-80, referred to below as the regulations or the fruits and vegetables regulations), the Animal and Plant Health Inspection Service (APHIS) of the United States Department of Agriculture (USDA) prohibits or restricts the importation of fruits and vegetables into the United States from certain parts of the world to prevent plant pests from being introduced into and spread within the United States.

On August 4, 2016, we published in the Federal Register (81 FR 51381-51383, Docket No. APHIS-2016-0026) a proposal ¹ to amend the regulations by allowing for the importation of commercially produced fresh mango (Mangifera indica L.) fruit from Vietnam into the continental United States.

¹ To view the proposed rule, supporting documents, and the comments we received, go to http://www.regulations.gov/#!docketDetail;D=APHIS-2016-0026.

We solicited comments concerning our proposal for 60 days ending October 3, 2016. We received 21 comments by that date. They were from producers, exporters, and representatives of State and foreign governments. Of these, four were fully supportive of the proposed action. The remaining 17 are discussed below by topic.

General Comments

One commenter asked why APHIS focused on the importation of fresh mango fruit instead of other fruits that cannot be grown in the United States.

APHIS's phytosanitary evaluation process only begins once a country has submitted a formal request for market access for a particular commodity. APHIS does not solicit such requests, nor do we control which countries submit requests.

Two commenters argued that there is already an adequate fresh mango supply in the domestic market to meet existing demand. The commenters stated that importation of fresh mango fruit carries a risk of diminished market share for local producers and suggested that the importation of fresh mango fruit from Vietnam not be allowed.

Such prohibitions would be beyond the scope of APHIS' statutory authority under the Plant Protection Act (7 U.S.C. 7701 et seq., referred to below as the PPA). Under the PPA, APHIS may prohibit the importation of a fruit or vegetable into the United States only if we determine that the prohibition is necessary in order to prevent the introduction or dissemination of a plant pest or noxious weed within the United States.

Additionally, as a signatory to the World Trade Organization's Agreement on Sanitary and Phytosanitary Measures (SPS Agreement), the United States has agreed that any prohibitions it places on the importation of fruits and vegetables will be based on scientific evidence related to phytosanitary measures and issues, and will not be maintained without sufficient scientific evidence. The blanket prohibitions requested by the commenters would not be in keeping with this agreement.

Another commenter suggested that, given the transit time from Vietnam to the continental United States, the fresh mango fruit would have to be harvested in a very under ripe state in order to survive transit and would therefore prove unsuitable for the domestic market.

While the quality of the fresh mango fruit and the timing of harvest are important factors in its marketability, we are solely concerned with plant health and phytosanitary risk. The timing of harvest solely for marketability reasons is outside the scope of this regulation.

Another commenter suggested that APHIS consider the effect of imported pests, bacteria, and fungi on domestic producers.

We considered these potential effects in the pest risk assessment (PRA) and laid out mitigations against phytosanitary impact in the risk management document (RMD) that accompanied the proposed rule.

Comments on the Impetus for the Proposal

One commenter stated that there is no reason to risk the accidental importation of pests associated with fresh mango fruit from Vietnam except for political gain.

This action was predicated on several risk assessment documents that provide a scientific basis for potential importation of fresh mango fruit from Vietnam. Without these risk assessment documents, which have withstood several reviews and public comment periods, APHIS would not have proposed this action. Political and economic interests may stimulate consideration of the expansion of trade of agricultural commodities between countries, but all decision making concerning phytosanitary restrictions on trade must be science-based. APHIS stands behind the risk assessment documents that support this rule, and believes they are based on sound science.

Two other commenters wanted to know why Vietnam would choose to export fresh mangos to the United States given that those fresh mangos would represent only 1 percent of the overall domestic supply. The commenters inquired about the benefits of adding another source of fresh mango fruit to the existing stock.

APHIS' phytosanitary evaluation process only begins once a country has submitted a formal request for market access for a particular commodity. APHIS does not solicit such requests, nor do we control which countries submit requests. APHIS does not solicit information regarding the motivations for such requests, we merely subject them to science-based evaluation.

Comments on the Pest List

The PRA identified 18 quarantine pests that could be introduced into the continental United States in consignments of fresh mango fruit from Vietnam. A quarantine pest is defined in § 319.56-2 as “a pest of potential economic importance to the area endangered thereby and not yet present there, or present but not widely distributed and being officially controlled.” The pests listed in the PRA are:

• Carambola fruit fly, Bactrocera carambolae Drew & Hancock

• Guava fruit fly, Bactrocera correcta (Bezzi)

• Melon fly, Bactrocera cucurbitae Coquillett

• Oriental fruit fly, Bactrocera dorsalis Hendel

• Pumpkin fruit fly, Bactrocera tau Walker

• Peach fruit fly, Bactrocera zonata (Saunders)

• Yellow peach moth, Conogethes punctiferalis

• Mango seed borer, Deanolis albizonalis

• Old World bollworm, Helicoverpa armigera

• Pink hibiscus mealybug, Maconellicoccus hirsutus

• The fungus Macrophoma mangiferae

• Spherical mealybug, Nipaecoccus viridis

• Coffee mealybug, Planococcus lilacinus

• Citriculus mealybug, Pseudococcus cryptus

• Fruit tree mealybug, Rastrococcus invadens

• Chili thrips, Scirtothrips dorsalis

• Mango pulp weevil, Sternochetus frigidus

• Mango black spot, Xanthomonas campestris pv. mangiferaeindicae

One commenter said that the chance of a mutation occurring that allows for one or multiple species to become resistant to the chemical treatments applied to fresh mango fruit from Vietnam was of potential concern. The commenter argued that, given the size of the pest list, such a mutation might be overlooked, resulting in an introduction of that mutated pest into the United States.

We believe that the standard suggested by the commenter would call for APHIS to postulate based on wholly unknowable risk factors. The PRA that accompanied the proposed rule provided a list of all pests of fresh mango fruit known to exist in Vietnam. This list was prepared using multiple data sources to ensure its completeness. For this same reason, we are confident it is accurate. If, however, a mutation of a pest is detected in Vietnam, APHIS will conduct further risk analysis in order to evaluate that pest to determine whether it is a quarantine pest, and whether it is likely to follow the importation pathway. If we determine that the pest is a quarantine pest and is likely to follow the pathway, we will work with the national plant protection organization (NPPO) of Vietnam to adjust the pest list and related phytosanitary measures to prevent its introduction into the United States.

Another commenter stated that Florida and Texas, two mango producing States, are already dealing with an emerging population of chili thrips. The commenter argued against the importation of fresh mango fruit from Vietnam given the prevalence of the pest in that country.

Given the findings of the PRA, we are confident that the systems approach required for fresh mango fruit from Vietnam will mitigate the risk posed by such fresh mango fruit to introduce these pests.

A commenter suggested that chili thrips be removed from the pest list, because the pest does not have any developing stages associated with fresh mango fruit.

As cited in the PRA, chili thrips only attacks immature fruit of its hosts, including fresh mango fruit.² The commenter provided no evidence to support the claim that the pest does not have any developing stages associated with fresh mango fruit.

² Yamaguchi, T. 2007. Seasonal prevalence of Scirtothrips dorsalis Hood and Selenothrips rubrocinctus (Giard) on the flower buds, inflorescences, and fruits of mango (Mangifera indica) plants cultivated in greenhouses on Amami-Oshima Island, Japan [Abstract]. Kyushu byogaichu kenkyukaiho 53:103-106.

Comments on the Systems Approach

Based on the findings of the PRA, we determined that measures beyond standard port-of-entry inspection will be needed to mitigate the risks posed by the pests listed above. These measures were identified in the RMD and were used as the basis for the requirements of the systems approach.

One commenter asked if there is a fund to compensate domestic producers for crop loss were the systems approach to fail. The commenter proposed that fresh mango fruit from Vietnam be subject to a hot water treatment as has been required for fresh mango fruit from other countries.

The mitigations listed are proven effective in preventing the introduction of foreign pests into the United States and are the same or equivalent to those measures required for the importation of fresh mango fruit from other countries (e.g., India, Pakistan, and Australia). There is currently no fund to compensate farmers as a result of pest introduction.

The same commenter stated that exporting countries may lie in their certifications of pest freedom.

For the reasons explained in the proposed rule, the RMD, and this final rule, we consider the provisions of this final rule adequate to mitigate the risk associated with the importation of fresh mango fruit from Vietnam. The commenter did not provide any evidence suggesting that the mitigations are individually or collectively ineffective.

Another commenter requested that fresh mango fruit from Vietnam not be allowed into the State of Florida given that the climate in that State is conducive to the establishment of the listed pests.

We have determined, for the reasons described in the RMD that accompanied the proposed rule, that the measures specified in the RMD will effectively mitigate the risk associated with the importation of fresh mango fruit from Vietnam. The commenter did not provide any evidence suggesting that the mitigations are not effective. Therefore, we are not taking the action requested by the commenter.

Fresh mango fruit from Vietnam will be required to be imported into the continental United States in commercial consignments only. One commenter asked how APHIS will determine whether a given operation is commercial. The commenter wanted to know if a list of approved producers will be made available.

An inspector will identify commercial consignments using such factors as: Quantity of produce, type of packaging, identification of grower or packinghouse on the packaging, and documents consigning the fruits or vegetables to a wholesaler or retailer. The NPPO of the exporting country verifies and approves commercial growing areas and maintains the list of all approved growers in that country. Anyone wishing to request this list should contact the NPPO of Vietnam for access.

Another commenter asked how we will ensure that non-commercial producers are not selling their fruit to commercial producers in order to skirt the requirements of the regulations.

APHIS and the NPPO of Vietnam will jointly develop an operational workplan. The workplan will incorporate details of traceability, treatment, and preclearance activities, including any inspection of articles that APHIS may perform before or after treatment. Traceability and verification that the fresh mango fruit was grown commercially will serve to prevent the scenario envisioned by the commenter.

Fresh mango fruit from Vietnam will be required to be treated with a minimum absorbed irradiation dose of 400 gray in accordance with § 305.9 of the phytosanitary treatment regulations in 7 CFR part 305. This is the established generic dose for all insect pests except pupae and adults of the order Lepidoptera and mango fruit pathogens. Consignments of fresh mango fruit from Vietnam will also have to meet all other relevant requirements in part 305, including monitoring of treatment by APHIS inspectors.

A commenter stated that irradiation is designed for certain insect species and may not be an effective treatment for the many other tropical fruit and citrus pests such as mites, as well as various pathogens, found in Vietnam.

We agree with the commenter, which is why the systems approach includes other phytosanitary procedures designed to provide protection from pests against which irradiation is not effective.

Another commenter was particularly concerned about peach fruit fly and pumpkin fruit fly and the potential for those pests to damage and infest domestic crops if they were to be accidentally introduced. The commenter inquired whether the required irradiation dose would kill all peach and pumpkin fruit flies.

While no treatment can be guaranteed to be 100 percent effective, the absorbed dose of 400 gray has been shown to be effective in preventing insects from reproducing. Irradiation treatment does not kill insects but instead renders them sterile or incapable of completing development.

One commenter stated that we should provide scientific evidence of how irradiation affects all the plant pests associated with fresh mango fruit from Vietnam.

We would not include data on the ways in which a given phytosanitary treatment affects plant pests for which it is not an approved treatment. All the pests associated with fresh mango fruit from Vietnam are not meant to be mitigated by the listed irradiation treatment; instead the required treatment works in concert with the other aspects of the systems approach in order to provide phytosanitary security. For a complete discussion of the efficacy of irradiation on those plant pests for which it is an approved treatment, please refer to the proposed and final rules entitled “Treatments for Fruits and Vegetables” (70 FR 33857-33873, Docket No. 03-077-1 and 71 FR 4451-4464, Docket No. 03-077-2).

In order to mitigate the risks posed by Macrophoma mangiferae, we proposed three options: (1) The mangoes be treated with a broad-spectrum post-harvest fungicidal dip, (2) the orchard of origin be inspected at a time prior to the beginning of harvest and be found free of Macrophoma mangiferae, or (3) fruit must originate from an orchard that was treated with a broad-spectrum fungicide during the growing season.

One commenter wanted to know who will conduct orchard inspections.

Inspections are performed by the NPPO of Vietnam or its designee. If necessary, based on noncompliance events or program audits conducted in accordance with APHIS' policy, APHIS will provide qualified personnel to work cooperatively with the NPPO of Vietnam and all other program participants to review and evaluate operations in the field and packinghouses, quarantine pest management and control activities, and other safeguarding measures.

Another commenter asked when the broad-spectrum fungicide will be required to be applied during the growing season. The commenter also wanted to know whether the fungicide or fungicides are safe to use in conjunction with fresh mango fruit.

Fungicides are applied at the recommended rate deemed effective against the target pest, and, as stated in the proposed rule, may be applied at any time during the growing season but prior to harvest. Fungicide safety in relation to the growing environment is subject to oversight by Vietnam's environmental authorities. The U.S. Food and Drug Administration (FDA) regulates and monitors the level of fungicide residues present on imported fruits and vegetables intended for human consumption.

A commenter wanted to know how we will ensure that all necessary treatments are being applied prior to harvest and export.

Our standard practice is to conduct site visits prior to the initiation of any import program. This is to ensure that all required mitigations are in place and the agreed upon operational workplan is being enforced. Subject matter experts inspect production sites and packinghouses and report their findings to APHIS. Furthermore, the operational workplan authorizes the regional APHIS International Services Director to conduct periodic audit visits of production sites.

Another commenter inquired about the authorization process for inspectors in Vietnam, stating that we need to ensure that authorized inspectors have the relevant experience and a strong background in agriculture and food safety.

All inspections will be performed by APHIS and the NPPO of Vietnam as part of the established preclearance program in Vietnam. The NPPO of Vietnam is responsible for recruiting, vetting, and training inspectors so that they possess the necessary skills to successfully perform their duties. Preclearance programs, including the program in Vietnam, are an important piece in our safeguarding strategy.

Each consignment of fruit will have to be accompanied by a phytosanitary certificate issued by the NPPO of Vietnam that contains an additional declaration stating that the fruit in the consignment was inspected and found free of Macrophoma mangiferae and Xanthomonas campestris pv. mangiferaeindicae. A commenter argued that APHIS's claim that inspection would mitigate the risks posed by Xanthomonas campestris pv. mangiferaeindicae since symptoms of Xanthomonas campestris pv. mangiferaeindicae are easily discernible to the naked eye was insufficient as some fruit might be asymptomatic. The commenter stated that testing may need to be done. Another commenter said that many of the listed pests are known to feed inside the fruit and have the potential to escape detection. The commenter argued that these pests would be difficult to routinely detect by inspection alone either due to their feeding habits or life stages. A third commenter stated that, while the risks would be minimized, they would not be eliminated.

We are confident that field inspection or treatment or packinghouse treatment and culling, in concert with the other requirements of the systems approach will be effective in mitigating phytosanitary risk. Any fruit that appeared asymptomatic, as posited by the commenters, would likely be in the early stages of infection. Given the transit time required to ship mangoes from Vietnam to the United States as well as mandatory port of entry inspections, it is likely that latent infection would be detected at this point in the importation process.

Consignments of fresh mango fruit from Vietnam will be subject to inspection at the port of entry. One commenter wanted to know if there is a defined set of requirements for halting the importation of fresh mango fruit from Vietnam based on the results of these inspections.

Consignments of fresh mango fruit from Vietnam will be seized at the port of entry in the United States if they fail to meet the entry requirements set out in the regulations or if quarantine pests are found.

Another commenter wanted to know the rate at which consignments will be inspected.

All shipments are inspected at the first port of entry into the United States. Fruit sampling will be conducted either as part of the pre-clearance program in Vietnam or, for those shipments of fresh mango fruit that were not subject to the pre-clearance program, by U.S. Customs and Border Protection (CBP). Actual sampling rates vary. In a pre-clearance program, fruits must be sampled at a rate that produces a 95 percent confidence of detecting a 2 percent or greater pest population for external pests and a 95 percent confidence of detecting a 10 percent or greater pest population for internal feeders. In the case of fresh mango fruit that were not subject to the pre-clearance program in Vietnam the sampling rate will be set by CBP inspectors. Generally speaking the CBP sampling rate is 2 percent of fruit in each consignment but may vary depending on various factors such as surface abnormalities noted during visual inspection.

A commenter questioned whether we should raise the costs and workload of inspectors at the ports by increasing their inspection duties.

APHIS has reviewed its resources and consulted with CBP and believes there is adequate coverage across the United States to ensure compliance with APHIS regulations, including the Vietnamese mango import program, as established by this rule.

Comments on Irradiation Treatment

Two commenters expressed concern regarding the use of irradiation as a phytosanitary treatment, saying that the potential effects of irradiation on those who consume irradiated foods should be considered. One of the commenters was particularly worried about the effect of irradiation on the enzymes found in raw foods, arguing that the long-term effects of irradiated food consumption have yet to be studied. The commenter argued that irradiated foods should be labeled accordingly.

While the impact of food on human health is regulated and monitored by the Food and Drug Administration (FDA) and, as such, these concerns are outside the scope of our authority, irradiated foods are wholesome and nutritious. Nutrient losses caused by irradiation are less than or about the same as losses caused by cooking and freezing.

Public health agencies worldwide have evaluated the safety of food irradiation over the last 50 years and found it to be safe. In 37 countries, more than 40 food products are irradiated. In some European countries, irradiation has been in use for decades. In the United States, the FDA regulates food irradiation. In addition, food irradiation has received official endorsement from the American Medical Association, the World Health Organization, and the International Atomic Energy Agency.

Comments on Additional Phytosanitary Measures

One commenter suggested that all pre-harvest orchard inspections and all treatments be performed by APHIS inspectors in addition to the NPPO of Vietnam.

APHIS will monitor and audit Vietnam's implementation of the systems approach for the importation of fresh mango fruit into the continental United States.

The same commenter said we should add a methyl bromide treatment requirement for an additional layer of phytosanitary protection against Macrophoma mangiferae, mango black spot, and lepidopteran pests. Another commenter suggested that we include vapor heat as a treatment option.

Methyl bromide fumigation is not necessary. Neither methyl bromide nor vapor heat are approved treatments for fresh mango fruit. For the reasons explained in the proposed rule, the PRA, the RMD, and this final rule, we consider the current provisions adequate to mitigate the risk associated with the importation of fresh mango fruit from Vietnam.

A commenter asked if it would be possible to observe inspectors at the port of entry to monitor implementation of the requirements.

The inspectors referenced by the commenter are trained agricultural specialists and we trust their knowledge and experience in phytosanitary inspections. Allowing outside parties to observe or participate in inspection work would potentially impede the inspectors' ability to perform their duties in a thorough and efficient manner. Inspections are performed in restricted areas and no civilians are allowed entry.

Comments on Vietnamese Oversight

Some commenters expressed concerns that the NPPO of Vietnam would not be able to adequately implement the required systems approach. One commenter asked how APHIS would enforce production standards in order to provide phytosanitary protection. Another commenter stated that the integrated pest management program in Vietnam is in its early stages and most farmers overdose their crops due to inexperience. The commenter said that this practice demonstrates a lack of concern for water and soil quality and suggests that the NPPO will not hold Vietnamese produce to a sufficiently high standard. A third commenter requested further information on how we will ensure that our standards for a pest free consignment are made clear.

APHIS personnel in Vietnam will take part in the preclearance program we have established and ensure that our required mitigation measures are enforced, including those relating to the application of fungicides in the field. In addition, as previously stated, APHIS will monitor and audit Vietnam's implementation of the systems approach for the importation of fresh mango fruit into the continental United States. If we determine that the systems approach has not been fully implemented or maintained, we will take appropriate remedial action to ensure that the importation of fresh mango fruit from Vietnam does not result in the dissemination of plant pests within the United States.

One commenter voiced concern regarding potential transshipment of fresh mango fruit from neighboring countries. The commenter wanted to know how we will prevent fresh mango fruit from being shipped into Vietnam and subsequently repackaged as a Vietnamese consignment.

It is the responsibility of the NPPO of Vietnam to verify that production sites that grow articles for export and packinghouses that handle such articles are registered with the NPPO. Fresh mango fruit received and packed for export to the United States must be from approved orchards only and APHIS reserves the right to inspect packinghouses participating in the export program. Failure to adhere to program standards, including packaging transshipped fruits, may result in removal from the export program.

Comments on Economic Factors

One commenter asked if the importation of fresh mango fruit from Vietnam would create economic benefits for special interests in either the United States or Vietnam. The commenter asked for assurance that the rule represents a good business deal for the United States.

APHIS bases its decisionmaking process on evaluation and mitigation of phytosanitary risk and not on the economic and trade factors referenced by the commenter.

Another commenter speculated that the work and resources required to allow for the importation of fresh mango fruit from Vietnam would be better expended on a higher value commodity.

Contrary to the commenter's assertion, the mechanisms, systems, and personnel for importing fruits and vegetables already exist. The addition of another commodity to the list of allowable imports, particularly as import levels are expected to be low, will not unduly tax the existing system.

A commenter observed that the economic analysis that accompanied the proposed rule stated that the expected importation level (3,000 metric tons [MT] annually) for fresh mango fruit from Vietnam was equal to the amount of fresh mango fruit produced domestically. The commenter questioned how the importation of an equal amount of fresh mango fruit to what is domestically grown represents a non-significant impact on U.S. mango producers.

U.S. fresh mango fruit production levels are indeed low and are estimated at 3,000 MT annually. However, from 1997 to 2015, fresh mango fruit imports increased from 187,000 MT to 391,000 MT. While the quantity that is imported from Vietnam is equivalent to the quantity produced in the United States, these imports will simply help meet the growing demand for mangoes. Fresh mango fruit imports from Vietnam represent less than one percent of total fresh mango fruit imports.

Therefore, for the reasons given in the proposed rule and in this document, we are adopting the proposed rule as a final rule, without change.

Executive Orders 12866 and 13771 and Regulatory Flexibility Act

This final rule has been determined to be not significant for the purposes of Executive Order 12866 and, therefore, has not been reviewed by the Office of Management and Budget. This rule is not an Executive Order 13771 regulatory action because this rule is not significant under Executive Order 12866.

In accordance with the Regulatory Flexibility Act, we have analyzed the potential economic effects of this action on small entities. The analysis is summarized below. Copies of the full analysis are available on the Regulations.gov Web site (see footnote 1 in this document for a link to Regulations.gov) or by contacting the person listed under FOR FURTHER INFORMATION CONTACT.

This rule is in response to a request from Vietnam to be allowed to export fresh mango fruit to the continental United States. The annual quantity that Vietnam expects to export to the United States, 3,000 MT, represents less than 1 percent of U.S. fresh mango fruit imports, which grew from 187,000 MT in 1997 to 391,000 MT in 2015. Primary sources are Mexico, Peru, Ecuador, Brazil, and Guatemala. While mangoes are grown in Florida and Hawaii, with smaller quantities produced in California and Texas, U.S. annual production totals only about 3,000 MT.

Most if not all U.S. mango farms and wholesalers are small entities. However, given the small quantity expected to be imported from Vietnam relative to current import levels, the rule will not have a significant impact on U.S. mango producers. While Vietnam's mango season runs from February to September, encompassing that of the United States (Florida's season is from May to September), U.S. importers may benefit marginally in having Vietnam as another source of fresh mangoes that will help meet the growing demand.

Under these circumstances, the Administrator of the Animal and Plant Health Inspection Service has determined that this action will not have a significant economic impact on a substantial number of small entities.

Executive Order 12988

This final rule allows fresh mango fruit to be imported into the continental United States from Vietnam. State and local laws and regulations regarding fresh mango fruit imported under this rule will be preempted while the fruit is in foreign commerce. Fresh fruits are generally imported for immediate distribution and sale to the consuming public, and remain in foreign commerce until sold to the ultimate consumer. The question of when foreign commerce ceases in other cases must be addressed on a case-by-case basis. No retroactive effect will be given to this rule, and this rule will not require administrative proceedings before parties may file suit in court challenging this rule.

Paperwork Reduction Act

In accordance with section 3507(d) of the Paperwork Reduction Act of 1995 (44 U.S.C. 3501 et seq.), the information collection or recordkeeping requirements included in this final rule, which were filed under 0579-0452, have been submitted for approval to the Office of Management and Budget (OMB). When OMB notifies us of its decision, if approval is denied, we will publish a document in the Federal Register providing notice of what action we plan to take.

E-Government Act Compliance

The Animal and Plant Health Inspection Service is committed to compliance with the E-Government Act to promote the use of the Internet and other information technologies, to provide increased opportunities for citizen access to Government information and services, and for other purposes. For information pertinent to E-Government Act compliance related to this rule, please contact Ms. Kimberly Hardy, APHIS' Information Collection Coordinator, at (301) 851-2483.

List of Subjects in 7 CFR Part 319

Coffee, Cotton, Fruits, Honey, Imports, Nursery stock, Plant diseases and pests, Plants, Quarantine, Reporting and recordkeeping requirements, Rice, Sugar, Vegetables.

Accordingly, we are amending 7 CFR part 319 as follows:

PART 319—FOREIGN QUARANTINE NOTICES

1. The authority citation for part 319 continues to read as follows:

Authority: 7 U.S.C. 450 and 7701-7772 and 7781-7786; 21 U.S.C. 136 and 136a; 7 CFR 2.22, 2.80, and 371.3.

2. Add § 319.56-81 to read as follows:

§ 319.56-81 Fresh mango from Vietnam.

Fresh mango (Mangifera indica L.) fruit may be imported into the continental United States under the following conditions:

(a) The fresh mango fruit may be imported in commercial consignments only.

(b) The fresh mango fruit must be treated for plant pests of the class Insecta, except pupae and adults of the order Lepidoptera, with irradiation in accordance with part 305 of this chapter.

(c) The risks presented by Macrophoma mangiferae must be addressed in one of the following ways:

(1) The fresh mango fruit are treated with a broad-spectrum post-harvest fungicidal dip; or

(2) The orchard of origin is inspected prior to the beginning of harvest and found free of Macrophoma mangiferae; or

(3) The fresh mango fruit must originate from an orchard that was treated with a broad-spectrum fungicide during the growing season.

(d) Each consignment of fresh mango fruit must be accompanied by a phytosanitary certificate issued by the NPPO of Vietnam that contains an additional declaration stating that the fruit in the consignment was inspected and found free of Macrophoma mangiferae and Xanthomonas campestris pv. mangiferaeindicae and has been produced in accordance with the requirements of the systems approach in this section.

(e) The fruit is subject to inspection at the port of entry for all quarantine pests of concern.

(Approved by the Office of Management and Budget under control number 0579-0452)

Done in Washington, DC, this 22nd day of November 2017.
Kevin Shea,
Administrator, Animal and Plant Health Inspection Service.

[FR Doc. 2017-25764 Filed 11-28-17; 8:45 am]

BILLING CODE 3410-34-P